DEPARTMENT OF HEALTH AND HUMAN SERVICES

Centers for Disease Control and Prevention

Notice of Award of a Single-Source Cooperative Agreement To Fund India Council of Medical Research (ICMR) and ICMR Institutions: National Institute of Virology (NIV), Pune and National Institute of Epidemiology (NIE), Chennai; Cancellation

AGENCY: Centers for Disease Control and Prevention (CDC), Department of Health and Human Services (HHS).

ACTION: Notice; cancellation.

SUMMARY: On June 15, 2022, the Centers for Disease Control and Prevention (CDC) in the Department of Health and Human Services (HHS) published a document in the Federal Register concerning a notice of award to fund the ICMR Institutions: National Institute of Virology (NIV), Pune and National Institute of Epidemiology (NIE), Chennai. Those awards are cancelled in their entirety.

FOR FURTHER INFORMATION CONTACT: Shana Eatman, Centers for Disease Control and Prevention, 1825 Century Center, MS V18-3, Atlanta, GA 30345, Telephone: 770-488-3933, email: DGHPNOFOs@cdc.gov

SUPPLEMENTARY INFORMATION: On June 15, 2022, CDC published a document announcing a notice of award of a single-source cooperative agreement to fund India Council of Medical Research (ICMR) and ICMR institutions: National Institute of Virology (NIV), Pune and National Institute of Epidemiology (NIE), Chennai (87 FR 36133). On July 1, 2022, CDC published another document that announced a corrected funding amount to that amount published on June 15, 2022 (87 FR 39521).

This document announces a cancellation of the notice of award to fund the ICMR Institutions: NIV, Pune and NIE, Chennai. These awards are cancelled in their entirety. CDC still plans to fund the ICMR in the amount of $24,495,000 with an expected total funding of approximately $122,475,000.

Amount of Award: $24,495,000 in Federal Fiscal Year (FFY) 2022, with a total estimated $122,475,000 for the 5-year period of performance, subject to availability of funds. Please note, the Notice of Funding Opportunity funding strategy is as follows: $1,980,000 for Core Component 1, and $22,515,000 in Approved but Unfunded (ABU) Components for the recipient.

Dated: August 5, 2022.
Terrance Perry,
Chief Grants Management Officer, Centers for Disease Control and Prevention.

[FR Doc. 2022-17171 Filed 8-9-22; 8:45 am]

BILLING CODE 4163-18-P